DEPARTMENT OF TRANSPORTATION

Coast Guard

33 CFR Part 165

[CGD09-01-002]

RIN 2115-AA97

Safety Zone: Captain of the Port Detroit Zone

AGENCY: Coast Guard, DOT.

ACTION: Final rule.

SUMMARY: The Coast Guard will establish safety zones for annual fireworks displays located in the Captain of the Port Detroit Zone. This action will provide for the safety of life and property on navigable waters during each event. This action will restrict vessel traffic in a portion of the Captain of the Port Detroit Zone.

DATES: This rule is effective on May 28, 2001.

ADDRESSES: Comments and material received from the public, as well as documents indicated in this preamble as being available in the docket, are part of docket CGD09-01-002 and are available for inspection or copying at, U.S. Coast Guard Marine Safety Office Detroit, 110 Mt. Elliott Avenue, Detroit, MI 48207 between 8 a.m. and 4 p.m., Monday through Friday, except Federal holidays.

FOR FURTHER INFORMATION CONTACT: Ensign Brandon Sullivan, U.S. Coast Guard Marine Safety Office Detroit, 110 Mt. Elliott Ave., Detroit, MI 48207, (313) 568-9580.

SUPPLEMENTARY INFORMATION:

Regulatory Information

On April 4, 2001, we published a notice of proposed rulemaking (NPRM) entitled “Safety Zone: Captain of the Port Detroit Zone”, in the Federal Register (66 FR 17829). We received no letters commenting on the proposed rule. No public hearing was requested and none was held.

Under 5 U.S.C 553(d)(3), the Coast Guard finds that good cause exists for making this rule effective less than 30 days after publication in the Federal Register. The events listed in this rule have been regularly held on an annual basis with widespread public participation. The Coast Guard has not received any complaints or negative comments previously with regard to these events. Delaying the effective date would be contrary to public interest because events being held in early June would be without an enforceable zone, thus placing the safety and property of spectators at unnecessary risk.

Background and Purpose

The Coast Guard is establishing 23 permanent safety zones that will be activated for fireworks displays occurring annually at the same location. The 23 locations are New Baltimore City Park, Lake St. Clair—Anchor Bay; 1000 yards east of Jefferson Beach Marina, Lake St. Clair; Ford's Cove, Lake St. Clair; the Brownstown Wave Pool, Lake Erie; St. Clair City Park, St. Clair River; DNR Boat Launch at the mouth of the Ausable River; Port Austin Breakwall, Lake Huron; breakwall between Oak & Van Alstyne St., Detroit River; 300 yards east of Grosse Pointe Farms, Lake St. Clair; Caseville breakwall, Saginaw River; between Algonac and Russell Island, St. Clair River—North Channel; South Harbor Breakwall, Lake Huron; 1000 yards east of Veterans Memorial Park, St. Clair Shores, Lake St. Clair; anchored 300 yards east of 223 Huron Ave: Black River; anchored 400 yards east of the Grosse Pointe Yacht Club seawall, Lake St. Clair; 300 yards east of the breakwall at Lexington, Lake Huron; anchored at the northern end of Mud Island, Ecorse Channel; Grosse Ile Yacht Club deck, Detroit River; anchored 200 yards east of Trenton, Trenton Channel; anchored 400 yards east of Belle Maer Harbor, Lake St. Clair—Anchor Bay; Tawas City Pier, Lake Huron; anchored 500 yards east of Marine City, St. Clair River; 600 yards off Jefferson Beach Marina, Lake St. Clair.

Based on recent accidents that have occurred in other Captain of the Port zones, and the explosive hazard associated with these events, the Captain of the Port has determined that fireworks launches in close proximity to watercraft pose a significant risk to public safety and property. The likely combination of large numbers of inexperienced recreational boaters, congested waterways, darkness punctuated by bright flashes of light, alcohol use, and debris falling into the water could easily result in serious injuries or fatalities. Establishing a safety zone to control vessel movement within a 300 yard radius of the fireworks launch platforms will help ensure the safety of persons and property at these events and help minimize the associated risk.

Discussion of Comments and Changes

MSO Detroit received no comments or related information pertaining to this rulemaking.

Regulatory Evaluation

This rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Transportation (DOT) (44 FR 11040, February 26, 1979).

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities.

This rule will affect the following entities, some of which might be small entities: The owners or operators of commercial vessels intending to transit a portion of an activated safety zone.

These safety zones would not have a significant economic impact on these small entities for the following reasons: The safety zone is only in effect for a few hours on the day of the event. Because these are annual events, affected entities can plan for any disruptions well in advance of the day of the event. Additionally, vessel traffic can safely pass outside the safety zones during the events. In cases where traffic congestion is greater than expected and blocks shipping channels, traffic may be allowed to pass through the safety zone under Coast Guard escort with the permission of the Captain of the Port Detroit.

Before the effective period, the Coast Guard will issue maritime advisories widely available to users who might be in the affected area by publication in the Federal Register and the Ninth Coast Guard District Local Notice to Mariners Marine information broadcasts and facsimile broadcasts may also be made. Additionally, the Coast Guard has not received any negative reports from small entities affected during these displays in previous years.

Assistance for Small Entities

Under section 213(a) of the Small Business Regulatory Enforcement Fairness Act of 1996 (Pub. L. 104-121), we want to assist small entities in understanding this rule so that they can better evaluate its effects and participate in the rulemaking process. If the rule would affect your small business, organization, or governmental jurisdiction and you have questions concerning its provisions or options for compliance, please contact Marine Safety Office Detroit (see ADDRESSES.)

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520).

Federalism

We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Environment

We have considered the environmental impact of this rule and concluded that under figure 2-1, paragraph (32)-(34) of Commandant Instruction M16475.l-C, this rule is categorically excluded from further environmental documentation.

A “Categorical Exclusion Determination” is available in the docket for inspection or copying where indicated under ADDRESSES.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

List of Subjects in 33 CFR Part 165

Harbors, Marine safety, Navigation (water), Reporting and record keeping requirements, Security measures, Waterways.

For the reasons discussed in the preamble, the Coast Guard amends 33 CFR part 165 as follows:

PART 165—REGULATED NAVIGATION AREAS AND LIMITED ACCESS AREAS

1. The authority citation for Part 165 continues to read as follows:

Authority: 33 U.S.C. 1231; 50 U.S.C. 191, 33 CFR 1.05-1(g), 6.04-1, 6.04-6 and 160.5; 49 CFR 1.46.

2. Add § 165.907 to read as follows:

§ 165.907 Safety Zones: Annual fireworks events in the Captain of the Port Detroit Zone.

(a) Safety Zones. The following areas are designated safety zones:

(1) Bay-Rama Fishfly Festival, New Baltimore, MI:

(i) Location. All waters off New Baltimore City Park, Lake St. Clair—Anchor Bay bounded by the arc of a circle with a 300-yard radius with its center located at approximate position 42°41″ N, 082°44′ W (NAD 1983).

(ii) Expected date. One day early in June.

(2) Jefferson Beach Marina Fireworks, St. Clair Shores, MI:

(i) Location. All waters of Lake St. Clair within a 300-yard radius of the fireworks barge in approximate position 42°32′ N, 082°51′ W (NAD 1983), about 1000 yards east of Jefferson Beach Marina.

(ii) Expected date. One day in the last week of June.

(3) Sigma Gamma Assoc., Grosse Pointe Farms, MI:

(i) Location. The waters off Ford's Cove, Lake St. Clair bounded by the arc of a circle with a 300-yard radius with its center in approximate position 42°27′ N, 082°52′ W (NAD 1983).

(ii) Expected date. One day in the last week of June.

(4) Lake Erie Metro Park Fireworks:(i)Location. The waters off the Brownstown Wave Pool area, Lake Erie bounded by the arc of a circle with a 300-yard radius with its center in approximate position 42°03′ N, 083°11′ W (NAD 1983).

(ii) Expected date. One day in the first week of July.

(5) City of St. Clair Fireworks:

(i) Location. The waters off St. Clair City Park, St. Clair River bounded by the arc of a circle with a 300-yard radius with its center in approximate position 42°49′ N, 082°29′ W (NAD 1983).

(ii) Expected date. One day in the first week of July.

(6) Oscoda Township Fireworks:

(i) Location. The waters off the DNR Boat Launch at the mouth of the Ausable River bounded by the arc of a circle with a 300-yard radius with its center in approximate position 44°19′ N, 083°25′ W (NAD 1983).

(ii) Expected Date. One day in the first week of July.

(7) Port Austin Fireworks:

(i) Location. The waters off the Port Austin Breakwall, Lake Huron bounded by the arc of a circle with a 300-yard radius with its center in approximate position 43°03′ N, 082°40′ W (NAD 1983).

(ii) Expected Date. One day in the first week of July.

(8) City of Wyandotte Fireworks, Wyandotte, MI:

(i) Location. The waters off the breakwall between Oak & Van Alstyne St., Detroit River bounded by the arc of a circle with a 300-yard radius with its center in approximate position 42°12′ N, 083°09′W (NAD 1983).

(ii) Expected date. One day in the first week of July.

(9) Grosse Pointe Farms Fireworks, Grosse Pointe Farms, MI:

(i) Location. All waters of Lake St. Clair within a 300-yard radius of the fireworks barge in approximate position 42°23′ N, 082°52′ W (NAD 1983), about 300 yards east of Grosse Pointe Farms.

(ii) Expected date. One day in the first week of July.

(10) Caseville Fireworks, Caseville, MI:

(i) Location. The waters off the Caseville breakwall, Saginaw River bounded by the arc of a circle with a 300-yard radius with its center in approximate position 43°55′ N, 083°17′ W (NAD 1983).

(ii) Expected date. One day in the first week of July.

(11) Algonac Pickerel Tournament Fireworks, Algonac, MI:

(i) Location. All waters of the St. Clair River within a 300-yard radius of the fireworks barge in approximate position 42°37′ N, 082°32′ W (NAD 1983), between Algonac and Russell Island, St. Clair River—North Channel.

(ii) Expected date. One day in the first week of July.

(12) Port Sanilac Fireworks, Port Sanilac, MI:

(i) Location. The waters off the South Harbor Breakwall, Lake Huron bounded by the arc of a circle with a 300-yard radius with its center in approximate position 43°25′ N, 082°31′ W (NAD 1983).

(ii) Expected date. One day in the first week of July.

(13) St. Clair Shores Fireworks, St. Clair Shores, MI:

(i) Location. All waters of Lake St. Clair within a 300-yard radius of the fireworks barge in approximate position 42°32′ N, 082°51′ W (NAD 1983), about 1000 yards east of Veterans Memorial Park (off Masonic Rd.), St. Clair Shores.

(ii) Expected date. One day in the first week of July.

(14) Port Huron 4th of July Fireworks, Port Huron, MI:

(i) Location. All waters of the Black River within a 300-yard radius of the fireworks barge in approximate position 42°58′ N, 082°25′ W (NAD 1983), about 300 yards east of 223 Huron Ave., Black River.

(ii) Expected date. One day in the first week of July.

(15) Grosse Pointe Yacht Club 4th of July Fireworks, Grosse Pointe Shores, MI:

(i) Location. All waters of Lake St. Clair within a 300-yard radius of the fireworks barge in approximate position 42°25′ N, 082°52′ W (NAD 1983), about 400 yards east of the Grosse Pointe Yacht Club seawall, Lake St. Clair.

(ii) Expected date. One day in the first week of July.

(16) Lexington Independence Festival Fireworks, Lexington, MI:

(i) Location. All waters of Lake Huron within a 300-yard radius of the fireworks barge in approximate position 43°13′ N, 082°30′ W (NAD 1983), about 300 yards east of the Lexington breakwall, Lake Huron.

(ii) Expected date. One day in the first week of July.

(17) City of Ecorse Water Festival Fireworks, Ecorse, MI:

(i) Location. All waters of the Ecorse Channel within a 300-yard radius of the fireworks barge in approximate position 42°14′ N, 083°09″ W (NAD 1983), at the northern end of Mud Island, Ecorse.

(ii) Expected date. One day in the first week of July.

(18) Grosse Ile Yacht Club Fireworks:

(i) Location. The waters off the Grosse Ile Yacht Club Deck, Detroit River bounded by the arc of a circle with a 300-yard radius with its center approximately located at latitude 42°05′ N, 083°09′ W (NAD 1983).

(ii) Expected date. One day in the first week of July.

(19) Trenton Fireworks Display, Trenton, MI:

(i) Location. All waters of the Trenton Channel within a 300-yard radius of the fireworks barge in approximate position 42°09′ N, 083°10′ W (NAD 1983), about 200 yards east of Trenton, in the Trenton Channel.

(ii) Expected date. One day in the first week of July.

(20) Belle Maer Harbor 4th of July Fireworks, Harrison Township, MI:

(i) Location. All waters of Lake St. Clair within a 300-yard radius of the fireworks barge in approximate position 42°36′ N, 082°47′ W (NAD 1983), about 400 yards east of Belle Maer Harbor, Lake St. Clair—Anchor Bay.

(ii) Expected date. One day in the first week of July.

(21) Tawas City 4th of July Fireworks, Tawas, MI:

(i) Location. The waters off the Tawas City Pier, Lake Huron bounded by the arc of a circle with a 300-yard radius with its center in approximate position 44°13′ N, 083°30′ W (NAD 1983).

(ii) Expected date. One day in the first week of July.

(22) Maritime Day Fireworks, Marine City, MI:

(i) Location. All waters of the St. Clair River within a 300-yard radius of the fireworks barge in approximate position 42°43′ N, 082°29′ W (NAD 1983), about 500 yards east of Marine City, St. Clair River.

(ii) Expected date. One day in the second weekend of August.

(23) Venetian Festival Boat Parade & Fireworks, St. Clair Shores, MI:

(i) Location. All waters of Lake St. Clair within a 300-yard radius of the fireworks barge in approximate position 42°28′ N, 082°52′ W (NAD 1983), about 600 yards off Jefferson Beach Marina, Lake St. Clair.

(ii) Expected date. One day in the second weekend of August.

(b) Regulations.

(1) The general regulations contained in 33 CFR 165.23 apply.

(2) All persons and vessels shall comply with the instructions of the Coast Guard Captain of the Port or the designated on scene patrol personnel. Coast Guard patrol personnel include commissioned, warrant, and petty officers of the U.S. Coast Guard. Upon being hailed by a U.S. Coast Guard vessel via siren, radio, flashing light, or other means, the operator shall proceed as directed.

(3) The safety zones in this regulation are outside navigation channels and will not adversely affect shipping. In cases where shipping is affected, commercial vessels may request permission from the Captain of the Port Detroit to transit the safety zone. Approval will be made on a case-by-case basis. Requests must be made in advance and approved by the Captain of the Port before transits will be authorized. The Captain of the Port may be contacted via U.S. Coast Guard Group Detroit on Channel 16, VHF-FM.

(c) Effective period. The Captain of the Port Detroit will publish a Notice of Implementation in the Federal Register as well as in the Ninth Coast Guard District Local Notice to Mariners the dates and times this section is in effect.

Dated: May 9, 2001.
S.P. Garrity,
Commander, U.S. Coast Guard, Captain of the Port Detroit.

[FR Doc. 01-12718 Filed 5-18-01; 8:45 am]

BILLING CODE 4910-15-U